DEPARTMENT OF DEFENSE

Department of the Army

Program Comment Plan for Army Warfighting Readiness and Associated Buildings, Structures, and Landscapes

AGENCY: Department of the Army, DoD.

ACTION: Notice of availability.

SUMMARY: The Department of the Army (Army) is making its Program Comment Plan for Army Warfighting Readiness and Associated Buildings, Structures, and Landscapes (Army Program Comment Plan) available for public review. The Army Program Comment Plan is located on the Army's website: https://www.denix.osd.mil/army-pcwr/. This notice of availability for public review of the Army Program Comment Plan initiates the Army's public participation requirements for the Army's proposed Program Comment for Army Warfighting Readiness and Associated Buildings, Structures, and Landscapes (Program Comment).

DATES: Consideration will be given to all comments on the Army Program Comment Plan that are received within 30 days following the date of this publication.

ADDRESSES: Written comments identified by “Army Program Comment Plan” should be submitted to: Office of the Assistant Secretary of the Army for Installations, Energy and Environment, ATTN: DASA-ESOH (Dr. David Guldenzopf), 110 Army Pentagon, Room 3E464, Washington, DC 20310, or by email to david.b.guldenzopf.civ@army.mil.

FOR FURTHER INFORMATION CONTACT: Dr. David Guldenzopf, Department of the Army Federal Preservation Officer, (703) 459-7756, david.b.guldenzopf.civ@army.mil.

SUPPLEMENTARY INFORMATION: Program Comment Plan for Army Warfighting Readiness and Associated Buildings, Structures, and Landscapes.

On 30 May 2025, the Department of the Army Federal Preservation Officer notified the Advisory Council on Historic Preservation (ACHP) of the Army's intent to request a Program Comment for Army Warfighting Readiness and Associated Buildings, Structures, and Landscapes in accordance with the National Historic Preservation Act (NHPA) 54 U.S.C. 306108, and 36 CFR 800.14(e). The goal of the Program Comment is to provide the Army compliance with the NHPA for Army warfighting readiness activities by means of the procedures in 36 CFR 800.14(e), in lieu of conducting individual projects reviews under 36 CFR 800.3 through 800.7.

James W. Satterwhite Jr.,
Army Federal Register Liaison Officer.

[FR Doc. 2025-14038 Filed 7-24-25; 8:45 am]

BILLING CODE 3711-CC-P